OFFICE OF MANAGEMENT AND BUDGET

Office of Federal Procurement Policy

DEPARTMENT OF DEFENSE

GENERAL SERVICES ADMINISTRATION

NATIONAL AERONAUTICS AND SPACE ADMINISTRATION

[OMB Control No. 9000-0024; Docket No. 2025-0054; Sequence No. 1]

Information Collection; Buy American, Trade Agreements, and Duty-Free Entry

AGENCY: Office of Federal Procurement Policy (OFPP), Office of Management and Budget (OMB); Department of Defense (DOD); General Services Administration (GSA); and National Aeronautics and Space Administration (NASA).

ACTION: Notice and request for comments.

SUMMARY: In accordance with the Paperwork Reduction Act of 1995 and OMB regulations, OFPP, DoD, GSA, and NASA invite the public to comment on an extension concerning Buy American, trade agreements, and duty-free entry. OFPP, DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through February 28, 2026. OFPP, DoD, GSA, and NASA propose that OMB extend its approval for use for three additional years beyond the current expiration date.

DATES: OFPP, DoD, GSA, and NASA will consider all comments received by February 9, 2026.

ADDRESSES: OFPP, DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0024, Buy American, Trade Agreements, and Duty-Free Entry. Comments received generally will be posted without change to https://www.regulations.gov, including any personal and/or business confidential information provided. To confirm receipt of your comment(s), please check www.regulations.gov, approximately two-to-three days after submission to verify posting.

FOR FURTHER INFORMATION CONTACT: FARPolicy@gsa.gov or call 202-969-4075.

SUPPLEMENTARY INFORMATION:

A. OMB control number, Title, and any Associated Form(s): 9000-0024, Buy American, Trade Agreements, and Duty-Free Entry.

B. Need and Uses: This clearance covers the information that an offeror must submit in response to the requirements of the provisions and clauses in the Federal Acquisition Regulation (FAR) part 25, as codified in Chapter 1 of Title 48 of the Code of Federal Regulations, that relates to the following:

* The Buy American statute (41 U.S.C. chapter 83) and Executive Orders 10582 and 14005.

* The Trade Agreements Act (19 U.S.C. 2501-2515), including the World Trade Organization Government Procurement Agreement and various free trade agreements.

* The American Recovery and Reinvestment Act of 2009 (Pub. L. 111-5) (Recovery Act).

* Subchapters VIII and X of Chapter 98 of the Harmonized Tariff Schedule of the United States (19 U.S.C. 1202).

FAR 52.225-2, Buy American Certificate. This provision requires the offeror to identify in its proposal supplies that do not meet the definition of domestic end product and whether those supplies exceed 55% domestic content. This provision also requires offerors to identify in its proposal domestic end products that contain a critical component.

FAR 52.225-4, Buy American—Free Trade Agreements—Israeli Trade Act Certificate. This provision requires a separate list of foreign products that are eligible under a trade agreement, and a list of all other foreign end products and whether those supplies exceed 55% domestic content. This provision also requires offerors to identify in its proposal domestic end products that contain a critical component.

FAR 52.225-6, Trade Agreements Certificate. This provision requires the offeror to certify that all end products are either U.S.-made or designated country end products, except as listed in paragraph (b) of the provision. Offerors are not allowed to provide other than a U.S.-made or designated country end product, unless the requirement is waived.

FAR 52.225-8, Duty-Free Entry. This clause requires contractors to notify the contracting officer when they purchase foreign supplies, in order to determine whether the supplies should be duty-free. The notice shall identify the foreign supplies, estimate the amount of duty, and the country of origin. The contractor is not required to identify foreign supplies that are identical in nature to items purchased by the contractor or any subcontractor in connection with its commercial business, and segregation of these supplies to ensure use only on Government contracts containing duty-free entry provisions is not economical or feasible. In addition, all shipping documents and containers must specify certain information to assure the duty-free entry of the supplies.

Construction provisions and clauses:

• FAR 52.225-9, Buy American—Construction Materials

• FAR 52.225-10, Notice of Buy American Requirement—Construction Materials

• FAR 52.225-11, Buy American-Construction Materials Under Trade Agreements

• FAR 52.225-12, Notice of Buy American Requirement—Construction Materials under Trade Agreements

• FAR 52.225-21, Required Use of American Iron, Steel, and Manufactured Goods—Buy American Statute—Construction Materials

• FAR 52.225-23, Required Use of American Iron, Steel, and Manufactured Goods—Buy American Statute—Construction Materials Under Trade Agreements

The listed provisions and clauses provide that an offeror or contractor requesting to use foreign construction material due to unreasonable cost of domestic construction material shall provide adequate information to permit evaluation of the request.

For supplies acquisitions, the contracting officer uses some of the information to identify the offered items that comply with the requirements of the Buy American statute and trade agreements and whether the supplies should be granted duty-free entry. For construction acquisitions, the contracting officer uses the information to evaluate requests for a determination of inapplicability of the Buy American statute.

C. Annual Burden:

Respondents: 9,279.

Total Annual Responses: 34,535.

Total Burden Hours: 29,138.

Obtaining Copies: Requesters may obtain a copy of the information collection documents from the GSA Regulatory Secretariat Division, by calling 202-501-4755 or emailing GSARegSec@gsa.gov. Please cite OMB Control No. 9000-0024, Buy American, Trade Agreements, and Duty-Free Entry.

Janet Fry,
Director, Federal Acquisition Policy Division, Office of Governmentwide Acquisition Policy, Office of Acquisition Policy, Office of Governmentwide Policy.

[FR Doc. 2025-22581 Filed 12-10-25; 8:45 am]

BILLING CODE 6820-EP-P